DEPARTMENT OF COMMERCE

National Oceanic and Atmospheric Administration

RIN 0648-XA727

Fisheries of the Caribbean, Gulf of Mexico, and South Atlantic; Gulf of Mexico Reef Fish Fishery; South Atlantic Snapper-Grouper Fishery

AGENCY: National Marine Fisheries Service (NMFS), National Oceanic and Atmospheric Administration (NOAA), Commerce.

ACTION: Request for designation; request for comments.

SUMMARY: The Gulf of Mexico Fishery Management Council (GMFMC) has proposed to remove Nassau grouper from the fishery management unit in the Fishery Management Plan for Reef Fish Resources of the Gulf of Mexico (Reef Fish FMP). Subsequently, in a September 16, 2011, letter to NMFS, the GMFMC has requested that the Secretary of Commerce (Secretary) designate the SAFMC as the responsible council to manage Nassau grouper throughout the South Atlantic region and the Gulf of Mexico under the FMP for the Snapper-Grouper Fishery of the South Atlantic Region (Snapper-Grouper FMP). The intent of this notice is to solicit public comments concerning this proposed designation.

DATES: Comments must be received no later than 5 p.m., eastern standard time, on November 17, 2011.

ADDRESSES: You may submit comments on the application by any of the following methods:

• E-mail: Steve.Branstetter@noaa.gov. Include in the subject line of the e-mail comment the following document identifier: “NASSAU”.

• Mail: Submit written comments to Steve Branstetter, Southeast Regional Office, NMFS, 263 13th Avenue South, St. Petersburg, FL 33701.

The application and related documents are available for review upon written request to any of the above addresses.

FOR FURTHER INFORMATION CONTACT: Steve Branstetter, 727-824-5305; e-mail: Steve.Branstetter@noaa.gov.

SUPPLEMENTARY INFORMATION: The GMFMC has submitted a Generic Annual Catch Limits/Accountability Measures Amendment for the GMFMC's Red Drum, Reef Fish, Shrimp, and Coral and Coral Reefs Fishery Management Plans (Generic ACL Amendment) for purposes of review by the Secretary under the Magnuson-Stevens Fishery Conservation and Management Act (Magnuson-Stevens Act). A Notice of Availability for the Generic ACL Amendment was published in the Federal Register on September 26, 2011 (76 FR 59373). As part of this amendment, the GMFMC has selected to remove Nassau grouper from the Reef Fish FMP. This proposed action is based on an October 20, 2010, letter from the SAFMC informing the GMFMC of its willingness to accept responsibility for managing Nassau grouper throughout South Atlantic and Gulf of Mexico (Gulf) Federal waters. The SAFMC currently manages Nassau grouper in its area of jurisdiction through the Snapper-Grouper FMP.

In accordance with section 304(f) of the Magnuson-Stevens Act, on September 16, 2011, the GMFMC formally requested that the Secretary designate the SAFMC as the responsible Council for continued management of the species in Federal waters of the South Atlantic region and to manage the species in the Federal waters of the Gulf.

Currently, the harvest of Nassau grouper is prohibited in Federal waters by regulations implemented through the GMFMC's Reef Fish FMP and the SAFMC's Snapper-Grouper FMP. Additionally, the harvest of Nassau grouper in Florida state waters is prohibited by the applicable Florida regulations. With the approval and implementation of the GMFMC's Generic ACL Amendment, which proposes to remove Nassau grouper from the Reef Fish FMP, all harvesting restrictions for Nassau grouper in Federal waters of the Gulf would be removed. If the SAFMC is designated as the responsible council for the management of Nassau grouper in the Gulf, the SAFMC is expected to extend the prohibition on harvest in the Gulf. Any action to remove the current prohibitions in the Gulf could have a delayed effective date, so that it was implemented simultaneously with SAFMC action to extend the prohibition.

NMFS requests public comment on the GMFMC's request to designate the SAMFC as the responsible council for managing Nassau grouper in both the Gulf and South Atlantic. Public comments will be reviewed and considered prior to NMFS' decision on this request.

Authority: 16 U.S.C. 1801 et seq.

Dated: October 13, 2011.
Steven Thur,
Acting Director, Office of Sustainable Fisheries, National Marine Fisheries Service.

[FR Doc. 2011-26931 Filed 10-17-11; 8:45 am]

BILLING CODE 3510-22-P